DEPARTMENT OF TRANSPORTATION

Federal Highway Administration

Environmental Impact Statement: Strafford and Rockingham Counties, New Hampshire

AGENCY: Federal Highway Administration (FHWA), DOT.

ACTION: Notice of intent.

SUMMARY: The FHWA is issuing this notice to advise the public that an environmental impact statement (EIS) is being prepared for a proposed highway project in Strafford and Rockingham Counties, New Hampshire.

FOR FURTHER INFORMATION CONTACT: Mr. William F. O'Donnell, P.E., Environmental Program Manager, Federal Highway Administration, 279 Pleasant Street, Suite 204, Concord, New Hampshire 03301-7502, Telephone: (603) 228-3057, x 145, or Mr. William R. Hauser, Administrator, Bureau of Environment, New Hampshire Department of Transportation, P.O. Box 483, John O. Morton Building, Concord, New Hampshire 03302-0483, Telephone: (603) 271-3226.

SUPPLEMENTARY INFORMATION: The FHWA, in cooperation with the New Hampshire Department of Transportation (NHDOT), will prepare an environmental impact statement (EIS) for a proposal for construction on an approximate 3.5-mile section of an existing highway facility (Spaulding Turnpike, NH Route 16, extending north from the Gosling Road/Pease Boulevard Interchange (Exit 1) in the Town of Newington, across the Little Bay Bridges, to a point just south of the existing toll facility in the City of Dover) that serves as a major north-south transportation link for the State of New Hampshire.

The proposed action would improve safety and increase transportation efficiency by relieving traffic congestion and reducing travel time, and accommodate projected increases in traffic demand.

Alternatives to be considered include (1) taking no action; (2) upgrading the existing route (approximately 3.5 miles in length) to add capacity; (3) applying Transportation Demand Management (TDM) measures, such as carpool parking lots, high occupancy vehicle lanes, etc.; (4) applying Transportation System Management (TSM) improvements to selected interchange locations on existing roads; and (5) combinations of these alternatives. Various options for bridge rehabilitation, widening, and/or replacement of the Little Bay Bridges, final disposition of the historic General Sullivan Bridge, consolidation of the interchanges, and various designs of grade, alignment, and geometry will be evaluated.

Public informational, community and Advisory Task Force meetings will be held in the study area as the project progresses to include public input in the project development process. A public hearing will be held following distribution of the Draft Environmental Impact Statement (DEIS). Public notice will be given regarding the time and location of this hearing. The DEIS will be available for review and comment by the public and interested agencies prior to the public hearing.

A formal scoping meeting has been scheduled and will be held at 4 p.m. on June 25, 2003, at the Newington Town Hall, 205 Nimble Hill Road in Newington, New Hampshire. At this session, an overview of the project area will be presented and the purpose and need of the project will be discussed. The purpose of this meeting is to (1) reaffirm the limits of the project study area; (2) refine the study framework and the impacts to be analyzed; and (3) define a reasonable range of alternatives to be considered.

Agencies, requested to become cooperating agencies, are the U.S. Army Corps of Engineers (ACOE), the U.S. Environmental Protection Agency (EPA), the new Hampshire State Historic Preservation Office (SHPO), the New Hampshire Department of Environmental Services (NHDES), the New Hampshire Fish & Game Department (NHF&GD), the New Hampshire Office of State Planning (OSP), the United States Coast Guard (USCG), the United States Fish & Wildlife Service (USFWS), and the National Marine Fishery Service (NMFS).

To ensure the full range of issues related to this proposed action are addressed and all significant issues identified, comments and suggestions are invited from all interested parties. Comments or questions concerning this proposal and the EIS should be directed to the FHWA or the NHDOT at the addresses provided above.

(Catalog of Federal Domestic Assistance Program Number 20.205, Highway Planning and Construction. The regulations implementing Executive Order 12372 regarding intergovernmental consultation on federal programs and activities apply to this program.)

Issued on: May 5, 2003.
Kathleen O. Laffey,
Division Administrator, Concord, New Hampshire.

[FR Doc. 03-11873 Filed 5-12-03; 8:45 am]

BILLING CODE 4910-22-M